DEPARTMENT OF LABOR

Occupational Safety and Health Administration

[Docket No. OSHA-2010-0047]

Bloodborne Pathogens Standard; Extension of the Office of Management and Budget's (OMB) Approval of Information Collection (Paperwork) Requirements

AGENCY: Occupational Safety and Health Administration (OSHA), Labor.

ACTION: Notice; correction.

SUMMARY: The Occupational Safety and Health Administration (OSHA) published a document in the Federal Register on April 15, 2021, soliciting public comments concerning the proposal to extend the Office of Management and Budget's (OMB) approval of the information collection requirements specified in the Bloodborne Pathogens Standard. The document contained an incorrect docket number. This notice corrects the docket number.

DATES: This correction is effective April 27, 2021.

FOR FURTHER INFORMATION CONTACT: Seleda Perryman or Theda Kenney, Directorate of Standards and Guidance, OSHA, U.S. Department of Labor; telephone: (202) 693-2222.

SUPPLEMENTARY INFORMATION:

Correction:

In the Federal Register of April 15, 2021 (86 FR 19904-19905), correct the Docket Number as described below.

1. On page 19904, in the second column, in the third line of the heading section, change the Docket Number to read:

[Docket No. OSHA-2010-0047]

* * * * *

2. On page 19904, in the third column, in the paragraph titled “Instructions,” change the Docket Number to read:

[Docket No. OSHA-2010-0047]

* * * * *

3. On page 19905, in the second column, in the first paragraph under “IV. Public Participation—Submission of Comments on This Notice and internet Access to Comments and Submissions,” change the Docket Number to read:

[Docket No. OSHA-2010-0047]

* * * * *

Authority and Signature

James S. Frederick, Acting Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on April 19, 2021.
James S. Frederick,
Acting Assistant Secretary of Labor for Occupational Safety and Health.

[FR Doc. 2021-08722 Filed 4-26-21; 8:45 am]

BILLING CODE 4510-26-P